COUNCIL ON ENVIRONMENTAL QUALITY

Final Guidance for Federal Departments and Agencies on Consideration of Greenhouse Gas Emissions and the Effects of Climate Change in National Environmental Policy Act Reviews

AGENCY: Council on Environmental Quality.

ACTION: Notice of Availability.

SUMMARY: The Council on Environmental Quality (CEQ) is issuing its final guidance on considering greenhouse gas (GHG) emissions and climate change in National Environmental Policy Act (NEPA) reviews. Many projects and programs proposed by, or requiring the approval of, Federal agencies have the potential to emit or sequester GHGs and may be affected by climate change. It follows that, under NEPA, Federal decision-makers and the public should be informed about a proposal's GHG emissions and climate change implications. Such information can help a decision-maker make an informed choice between alternative actions that will result in different levels of GHG emissions or consider mitigation measures that reduce climate change impacts. This final guidance applies to all types of proposed Federal agency actions, including land and resource management actions, and provides agencies with a framework for agency consideration of the effects of GHGs and climate change to ensure efficient and transparent agency decision-making.

DATES: The guidance is effective August 5, 2016.

ADDRESSES: The Final Guidance is available at https://www.whitehouse.gov/administration/eop/ceq/initiatives/nepa/ghg-guidance and https://ceq.doe.gov/. Paper copies are also available upon request.

FOR FURTHER INFORMATION CONTACT: Council on Environmental Quality (ATTN: Ted Boling, Associate Director for the National Environmental Policy Act), 722 Jackson Place NW., Washington, DC 20503. Telephone: (202) 395-5750.

SUPPLEMENTARY INFORMATION: Enacted by Congress in 1969, the National Environmental Policy Act (NEPA), 42 U.S.C. 4321 et seq., is this Nation's basic charter for harmonizing our environmental, economic, and social goals and is a cornerstone of the Nation's efforts to protect the environment. NEPA is based on a recognition that many Federal activities affect the environment and mandates that Federal agencies consider the environmental impacts of their proposed actions before deciding to adopt proposals and take actions.¹

¹ For more information on the applicability of NEPA, see the Council on Environmental Quality (CEQ), “A Citizen's Guide to the NEPA,” available at https://ceq.doe.gov/nepa/Citizens_Guide_Dec07.pdf.

On December 24, 2014, CEQ issued revised draft guidance ² developed after considering comments received on the February 2010 draft guidance from the public, Federal agencies, and other affected stakeholders.³ A Federal Register notice announced the availability of the revised draft guidance for public review and opened a 60-day public comment period through February 23, 2015. 79 FR 77801 (Dec. 24, 2014). In response to stakeholders who requested additional time to review and comment on the revised draft guidance, CEQ extended the public comment period 30 days until March 25, 2015. 80 FR 9443 (Feb. 23, 2015).

² See CEQ, “Revised Draft Guidance for Federal Departments and Agencies on Consideration of Greenhouse Gas Emissions and the Effects of Climate Change in NEPA Reviews,” (Dec. 24, 2014), available at http://www.whitehouse.gov/sites/default/files/docs/nepa_revised_draft_ghg_guidance_searchable.pdf.

³ See CEQ, “Draft NEPA Guidance on Consideration of the Effects of Climate Change and Greenhouse Gas Emissions,” (Feb. 18, 2010), available at http://www.whitehouse.gov/sites/default/files/microsites/ceq/20100218-nepa-consideration-effects-ghg-draft-guidance.pdf.

There were over 100 public comments from a broad range of stakeholders, including private citizens, members of Congress, corporations, environmental organizations, trade associations, academics, tribes, and Federal, state, and local agencies. CEQ considered the comments and the revised guidance reflects its consideration of the input.

This guidance is not a regulation. It presents CEQ's interpretation of what is appropriate under NEPA and the CEQ Regulations for Implementing the Procedural Provisions of NEPA, 40 CFR parts 1500-1508 (CEQ Regulations). This guidance does not change or substitute for any law, regulation, or other legally binding requirement. With this guidance, CEQ provides Federal agencies with an overarching framework for determining how to consider GHG emissions and climate change effects in NEPA reviews. Consequently, this guidance could reduce agency uncertainty and avoid impacts on project timelines and costs that stem from such uncertainty.

Agency discretion is an integral aspect of NEPA implementation and this guidance offers an approach to agencies on how to exercise that discretion. This guidance preserves agency discretion and recognizes agencies' abilities to evaluate the facts in the NEPA review at hand and determine how GHG emissions and climate change should be taken into account, the appropriate depth and scope for meaningfully comparing alternatives, and the appropriate GHG emission quantification tools.

The final guidance recommends that agencies use projected GHG emissions as a proxy for assessing potential climate change effects when preparing a NEPA analysis for a proposed agency action; recommends that agencies quantify projected direct and indirect GHG emissions, taking into account available data and GHG quantification tools that are suitable for the proposed agency action; and recommends that where agencies do not quantify the GHG emissions for a proposed agency action because tools, methodologies, or data inputs are not reasonably available, agencies include a qualitative analysis in the NEPA document and explain the basis for determining that quantification is not reasonably available. The guidance also:

• Counsels agencies to use information developed during the NEPA review to consider alternatives that would make the actions and affected communities more resilient to the effects of a changing climate.

• Outlines special considerations for analysis of biogenic carbon dioxide sources and carbon stocks associated with land and resource management actions.

• Encourages agencies to use and leverage existing NEPA tools and practices to assist in their analyses, such as scoping, broad-scale reviews and tiering, incorporation by reference, and available information.

• Advises agencies to rely on their expert judgment and experience to determine which tools and methodologies should be used when they conduct their analyses.

This guidance is effective for use on all new proposals when a NEPA review is initiated. CEQ recommends that agencies consider applying this guidance to projects in ongoing EIS or EA processes where GHG emissions may be a significant aspect of the proposal.

The final guidance is available on the National Environmental Policy Act Web site (www.nepa.gov) specifically at, https://ceq.doe.gov/ceq_regulations/guidance.html, and on the CEQ Web site at https://www.whitehouse.gov/administration/eop/ceq/initiatives/nepa/ghg-guidance. For the reasons stated in the preamble, above, CEQ issues the following guidance on the consideration of GHG emissions and the effects of climate change in NEPA reviews.

Authority: 42 U.S.C. 4332, 4342, 4344 and 40 CFR parts 1500, 1501, 1502, 1503, 1505, 1506, 1507, and 1508.

Dated: August 1, 2016.
Christy Goldfuss,
Managing Director, Council on Environmental Quality.

[FR Doc. 2016-18620 Filed 8-4-16; 8:45 am]

BILLING CODE 3225-F6-P